DEPARTMENT OF THE INTERIOR

National Park Service

National Register of Historic Places; Notification of Pending Nominations

Nominations for the following properties being considered for listing in the National Register were received by the National Park Service before September 11, 2004. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by October 27, 2004.

Carol D. Shull,
Keeper of the National Register of Historic Places.

ARIZONA

Pima County

Canoa Ranch Headquarters Historic District, (Cattle Ranching in Arizona MPS) 5555 S AZ 19, Green Valley, 04001158

Robles Ranch House, 16130 W. Ajo Hwy, Robles Junction, 04001157

San Clemente Historic District, SE corner Alvernon and Broadway, Tucson, 04001156

CALIFORNIA

Tuolumne County

Yosemite Valley, Yosemite National Park, Yosemite, 04001159

KANSAS

Sedgwick County

Buildings at 800 West Douglas Block, 809, 811, and 815 W. Douglas, Wichita, 04001160

MISSOURI

Jackson County

Christian Church Hospital, 2524 W. Paseo Blvd., Kansas City, 04001161

St. Louis Independent city

Central Institute for the Deaf Clinic and Research Building, 909 S. Taylor Ave., St. Louis (Independent City), 04001163

Pacini, Armando, Restaurant, 8 S. Sarah St., St. Louis (Independent City), 04001162

SOUTH CAROLINA

Charleston County

Greek Orthodox Church of the Holy Trinity, 30 Race St., Charleston, 04001164

TEXAS

Bexar County

Buckeye Park Gate, 1600 W. Wildwood, San Antonio, 04001169

Chinese Sunken Garden Gate, (Sculpture by Dionicio Rodriguez in Texas MPS) Brackenridge Park, 400 N. St. Mary's St., San Antonio, 04001167

Dionicio Rodriguez Bridge in Brackenridge Park, (Sculpture by Dionicio Rodriguez in Texas MPS) 400 N. St. Mary's St., San Antonio, 04001166

Jacala Restaurant, (Sculpture by Dionicio Rodriguez in Texas MPS) 2702 N. St. Mary's St., San Antonio, 04001168

Miraflores Park, (Sculpture by Dionicio Rodriguez in Texas MPS) 800 Hildebrand, San Antonio, 04001176

Stations of the Cross and Grotto at the Shrine of St. Anthony de Padua, (Sculpture by Dionicio Rodriguez in Texas MPS) 100 Peter Baque Rd., San Antonio, 04001170

Trolley Stop in Alamo Heights, (Sculpture by Dionicio Rodriguez in Texas MPS) 4900 blk of Broadway, Alamo Heights, 04001165

Brazoria County

Gazebo for James Richard Marmion, (Sculpture by Dionicio Rodriguez in Texas MPS) 1214 County Rd., Sweeny, 04001173

Palapa Table for James Richard Marmion, (Sculpture by Dionicio Rodriguez in Texas MPS) 1214 County Rd., Sweeny, 04001172

Harris County

Woodlawn Garden of Memories Cemetery, (Sculpture by Dionicio Rodriguez in Texas MPS) 1101 Antoine, Houston, 04001174

Jefferson County

Eddingston Court, (Sculpture by Dionicio Rodriguez in Texas MPS) 3300 Proctor St., Port Arthur, 04001175

Kendall County

Gazebo for Alber Steves, (Sculpture by Dionicio Rodriguez in Texas MPS) 105 FM 473, at east portion of property, Comfort, 04001171

[FR Doc. 04-22769 Filed 10-8-04; 8:45 am]

BILLING CODE 4312-51-U